NATIONAL SCIENCE FOUNDATION

Committee Management; Notice of Establishment

The Chief Operating Officer of the National Science Foundation has determined that the establishment of the STEM Education Advisory Panel is necessary and in the public interest in connection with the performance of the duties imposed upon the National Science Foundation (NSF) by 42 U.S.C. 1861 et seq. This determination follows consultation with the Committee Management Secretariat, General Services Administration.

Name of Committee: STEM Education Advisory Panel (#2624)

1. Nature/Purpose: The STEM Education Advisory Panel will provide advice and recommendations to the Committee on STEM Education (CoSTEM), assess CoSTEM's progress in carrying out responsibilities related to the America COMPETES Reauthorization Act, and help identify need or opportunity to update the Federal Science, Technology, Engineering, and Mathematics (STEM) Education 5-Year Strategic Plan.

Responsible NSF Official: William J. Lewis, Acting Assistant Director, Directorate for Education and Human Resources, National Science Foundation, 2415 Eisenhower Avenue, C 11004, Alexandria, VA 22314. Telephone: 703/292-8600.

Dated: September 27, 2017.
Crystal Robinson,
Committee Management Officer.

[FR Doc. 2017-21037 Filed 9-29-17; 8:45 am]

BILLING CODE 7555-01-P